DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than July 7, 2017.

Interested persons are invited to submit written comments regarding the subject matter of the investigations to the Director, Office of Trade Adjustment Assistance, at the address shown below, not later than (INSERT DATE TEN DAYS AFTER PUBLICATION IN FR).

The petitions filed in this case are available for inspection at the Office of the Director, Office of Trade Adjustment Assistance, Employment and Training Administration, U.S. Department of Labor, Room N-5428, 200 Constitution Avenue NW., Washington, DC 20210.

Signed at Washington, DC this 5th day of June 2017.
Hope D. Kinglock,
Certifying Officer, Office of Trade Adjustment Assistance.

Appendix
[352 TAA petitions instituted between 1/30/17 and 6/2/17]
TA-W | Subject firm (petitioners) | Location | Date of institution | Date of petition
92588 | Praxair, Inc. (State/One-Stop) | Leechburg, PA | 01/30/17 | 01/26/17
92589 | Faurecia Automotive Seating (State/One-Stop) | Sterling Heights, MI | 01/30/17 | 01/27/17
92590 | MUFG Union Bank, N.A. (State/One-Stop) | Monterey Park, CA | 01/30/17 | 01/27/17
92591 | MV Metal Products & Services (Workers) | Dowagiac, MI | 01/30/17 | 01/27/17
92592 | The Button House (State/One-Stop) | New York, NY | 01/30/17 | 01/27/17
92593 | Integrated Power Services (Workers) | Washington, PA | 01/30/17 | 01/28/17
92594 | Polycom Inc. (State/One-Stop) | Westminster, CO | 01/31/17 | 01/30/17
92595 | Future Concepts LLC (State/One-Stop) | La Verne, CA | 01/31/17 | 01/30/17
92596 | Bank of America Corporation (State/One-Stop) | Utica, NY | 01/31/17 | 01/30/17
92597 | Computer Science Corporation (State/One-Stop) | Coppell, TX | 02/01/17 | 01/31/17
92598 | Verizon Wireless (Workers) | Rancho Cordova, CA | 02/01/17 | 01/31/17
92599 | M&G DuraVent (State/One-Stop) | Albany, NY | 02/02/17 | 02/01/17
92600 | IDEX MPT, Inc. (Union) | Elmhurst, IL | 02/03/17 | 02/02/17
92601 | Arrow International Inc. (Union) | Reading, PA | 02/03/17 | 02/02/17
92602 | Nordson XALOY (Union) | Pulaski, VA | 02/03/17 | 02/02/17
92603 | IEC Electronics Corporation (State/One-Stop) | Newark, NY | 02/03/17 | 12/13/16
92604 | First American Title Insurance Company (State/One-Stop) | Irvine, CA | 02/03/17 | 02/02/17
92605 | M + S US Inc (State/One-Stop) | Plano, TX | 02/03/17 | 02/02/17
92606 | Hewlett Packard Enterprise (State/One-Stop) | Cerritos, CA | 02/03/17 | 02/02/17
92607 | AIG PC Global Services, Inc. (State/One-Stop) | Olathe, KS | 02/06/17 | 02/03/17
92608 | First Advantage Background Services Corporation (Workers) | Indianapolis, IN | 02/06/17 | 02/03/17
92609 | Avantor Performance Materials (Workers) | Phillipsburg, NJ | 02/06/17 | 02/03/17
92610 | Ericsson, Inc. (Company) | Santa Clara, CA | 02/06/17 | 02/05/17
92611 | Tektronix including on-site leased wrkrs frm Adecco (State/One-Stop) | Beaverton, OR | 02/06/17 | 02/03/17
92612 | Graphic Arts Center (State/One-Stop) | Portland, OR | 02/06/17 | 02/03/17
92613 | Evonik (State/One-Stop) | Portland, OR | 02/06/17 | 02/03/17
92614 | ATI Specialty Alloys and Components, Albany Operations 34th Ave Plant (State/One-Stop) | Albany, OR | 02/07/17 | 02/06/17
92615 | MTBC Acquisition Corporation (State/One-Stop) | Somerset, NJ | 02/07/17 | 02/06/17
92616 | Sprint (State/One-Stop) | Blountville, TN | 02/07/17 | 02/06/17
92617 | Aero-Mach Labs, Inc. (State/One-Stop) | Wichita, KS | 02/07/17 | 02/07/17
92618 | Bank of America (Workers) | Plano, TX | 02/07/17 | 01/25/17
92619 | FormSolver, Inc. dba Framatic Co. (State/One-Stop) | Los Angeles, CA | 02/07/17 | 02/06/17
92620 | Novartis Pharmaceutical Corporation (Workers) | East Hanover, NJ | 02/08/17 | 02/07/17
92621 | Silverack LLC (State/One-Stop) | Brea, CA | 02/08/17 | 02/07/17
92622 | Pfizer ? Rouses Point (State/One-Stop) | Rouses Point, NY | 02/08/17 | 02/07/17
92623 | ATCO Structures & Logistics (State/One-Stop) | Pocatello, ID | 02/08/17 | 02/07/17
92624 | HUBS, Inc., Hubbell Incorporated (Delaware) (State/One-Stop) | Shelton, CT | 02/08/17 | 02/07/17
92625 | Tronc, Inc. (Company) | Chicago, IL | 02/08/17 | 02/06/17
92626 | Kaba llco Corp (Company) | Winston-Salem, NC | 02/08/17 | 01/11/17
92627 | Ameridial (Workers) | Spindale, NC | 02/08/17 | 02/07/17
92628 | Support.com, Inc. (State/One-Stop) | Redwood City, CA | 02/08/17 | 02/03/17
92629 | Lone Star Tubular Service, Inc. (Workers) | Lone Star, TX | 02/08/17 | 12/21/16
92630 | ITW Powertrain Components (Workers) | Mazon, IL | 02/08/17 | 02/07/17
92631 | Oceaneering International, Inc. (State/One-Stop) | Houston, TX | 02/09/17 | 02/08/17
92632 | Digital River, Inc. (State/One-Stop) | Minnetonka, MN | 02/09/17 | 02/08/17
92633 | International Business Machines Corporation (IBM) (State/One-Stop) | Lexington, KY | 02/09/17 | 02/08/17
92634A | Seagate Technology (State/One-Stop) | Longmont, CO | 02/13/17 | 02/10/17
92634 | Seagate Technology (State/One-Stop) | Shakopee, MN | 02/13/17 | 02/10/17
92635 | Ericsson, Inc. (State/One-Stop) | San Jose, CA | 02/13/17 | 02/10/17
92636 | Verizon Wireless Call Center (State/One-Stop) | Lincoln, NE | 02/13/17 | 02/10/17
92637 | Verso Dover Woodyard (State/One-Stop) | Dover-Foxcroft, ME | 02/14/17 | 02/14/17
92638 | Sypris Technologies (Company) | Louisville, KY | 02/14/17 | 02/13/17
92639 | Jabil Circuit, Inc. (State/One-Stop) | Rochester, NY | 02/14/17 | 02/14/17
92640 | Manpower (State/One-Stop) | Phoenix, AZ | 02/14/17 | 02/13/17
92641 | NCI Group, Inc. (State/One-Stop) | Omaha, NE | 02/14/17 | 02/13/17
92642 | Yanfeng Global Automotive Interiors US 1 LLC (Union) | Northwood, OH | 02/14/17 | 01/19/17
92643 | Merck Sharp & Dohme Corporation (Workers) | Rahway, NJ | 02/14/17 | 02/08/17
92644 | Luvo USA, LLC (State/One-Stop) | Schaumburg, IL | 02/15/17 | 02/14/17
92645 | Merck Sharp & Dohme Corporation (Workers) | Kenilworth, NJ | 02/15/17 | 02/15/17
92646 | International Business Machines Corporation (IBM) (State/One-Stop) | Poughkeepsie, NY | 02/16/17 | 02/15/17
92647 | Tri-Pro Forest Products, Inc. (Company) | Orofino, ID | 02/16/17 | 02/02/17
92648 | Ventra Evart, LLC (State/One-Stop) | Evart, MI | 02/16/17 | 02/15/17
92649 | Kleer Fax, Inc. (State/One-Stop) | Amityville, NY | 02/16/17 | 02/16/17
92650 | KEMET Electronics Corporation (Company) | Simpsonville, SC | 02/17/17 | 02/16/17
92651 | Verizon Wireless (State/One-Stop) | Rochester, NY | 02/17/17 | 02/16/17
92652 | Technicolor (Company) | Camarillo, CA | 02/21/17 | 02/17/17
92653A | TAB Products Co. LLC (Workers) | Mayville, WI | 02/21/17 | 02/17/17
92653B | TAB Products Co. LLC (Workers) | Mayville, WI | 02/21/17 | 02/17/17
92653 | TAB Products Co. LLC (Workers) | Mayville, WI | 02/21/17 | 02/17/17
92654 | Thomson Reuters (State/One-Stop) | Hauppauge, NY | 02/21/17 | 02/17/17
92654A | Thomson Reuters (State/One-Stop) | Nutley, NJ | 02/21/17 | 02/17/17
92655 | J.C. Penney Corporation, Inc. (State/One-Stop) | Plano, TX | 02/21/17 | 02/17/17
92656 | Hyundai Rotem (Union) | Philadelphia, PA | 02/21/17 | 02/21/17
92657 | Seattle Times Company (State/One-Stop) | Seattle, WA | 02/21/17 | 02/16/17
92658 | Meadville Forging Company (CNC Division) (Company) | Cambridge Springs, PA | 02/21/17 | 02/20/17
92659 | LedVance LLC (Company) | Versailles, KY | 02/21/17 | 02/20/17
92660 | International Business Machines Corporation (IBM) (State/One-Stop) | Hillsboro, OR | 02/22/17 | 02/21/17
92661 | McFarland Cascade (State/One-Stop) | Rochester, WA | 02/22/17 | 02/15/17
92662 | TechInsights USA, Inc. (State/One-Stop) | Austin, TX | 02/22/17 | 02/21/17
92663 | Lionbridge Technologies (Company) | Bellevue, WA | 02/22/17 | 02/16/17
92664 | Corbis & Branded Entertainment Network (State/One-Stop) | New York, NY | 02/23/17 | 02/22/17
92665 | CVG Alabama, LLC (State/One-Stop) | Piedmont, AL | 02/23/17 | 02/22/17
92666 | Dickard-Widder Industries (Union) | Maspath, NY | 02/23/17 | 01/12/17
92667 | NetApp, Inc. (Workers) | Cranberry Township, PA | 02/23/17 | 02/22/17
92668 | Thomson Reuters Corporation (State/One-Stop) | Stamford, CT | 02/23/17 | 02/21/17
92669 | International Business Machines Corporation (IBM) (Workers) | Cambridge, MA | 02/24/17 | 02/23/17
92670 | International Business Machines Corporation (IBM) (State/One-Stop) | Sterling Forrest, NY | 02/24/17 | 02/23/17
92671 | MACOM (State/One-Stop) | Ithaca, NY | 02/24/17 | 02/22/17
92672 | Mayflower Vehicle Systems, LLC (Company) | Shadyside, OH | 02/24/17 | 02/23/17
92673 | Merck Sharp & Dohme Corporation (Workers) | Kenilworth, NJ | 02/24/17 | 02/23/17
92674 | Rock of Ages (State/One-Stop) | Graniteville, VT | 02/24/17 | 02/23/17
92675 | TE Connectivity (Company) | Pennsauken, NJ | 02/27/17 | 02/15/17
92676 | Suniva, Inc. (State/One-Stop) | Saginaw, MI | 02/27/17 | 02/24/17
92677 | Philips Lighting North America Corp. (State/One-Stop) | Salina, KS | 02/27/17 | 02/24/17
92678 | Burroughs Inc. (State/One-Stop) | Plymouth, MI | 02/27/17 | 02/24/17
92679 | B/E Aerospace, Inc. (State/One-Stop) | Anaheim, CA | 02/27/17 | 02/24/17
92680 | Data Listing Services dba The Connection (Company) | Olean, NY | 02/27/17 | 02/24/17
92681 | Business Health Solutions and Quality Tools & Abrasives (State/One-Stop) | Indianapolis, IN | 02/27/17 | 02/24/17
92682 | Via Christi Health, Inc. (State/One-Stop) | Wichita, KS | 02/27/17 | 02/24/17
92682D | Via Christi Hospital Wichita, Inc. (State/One-Stop) | Wichita, KS | 02/27/17 | 02/24/17
92682C | Via Christi Hospital Wichita, Inc. (State/One-Stop) | Wichita, KS | 02/27/17 | 02/24/17
92682B | Via Christi Hospital Manhattan, Inc. (State/One-Stop) | Manhattan, KS | 02/27/17 | 02/24/17
92682A | Via Christi Hospital Pittsburgh, Inc. (State/One-Stop) | Pittsburgh, KS | 02/27/17 | 02/24/17
92683 | National Oilwell Varco—IntelliServ (Workers) | Provo, UT | 02/28/17 | 02/27/17
92684 | ASG Technologies Group, Inc. (State/One-Stop) | Naples, FL | 02/28/17 | 02/24/17
92685 | Ricoh Electronics Inc (State/One-Stop) | Tustin, CA | 02/28/17 | 02/27/17
92686 | Crew Knitwear LLC (State/One-Stop) | Los Angeles, CA | 03/01/17 | 02/28/17
92687 | Mo Bio Laboratories, Inc. (State/One-Stop) | Carlsbad, CA | 03/01/17 | 02/28/17
92688 | Core Pharma (State/One-Stop) | Middlesex, NJ | 03/01/17 | 02/28/17
92689 | ATC Panels, Inc. (Workers) | Franklin, VA | 03/02/17 | 03/01/17
92690 | Crown Casting (Company) | Hodges, SC | 03/02/17 | 03/01/17
92691 | International Business Machines Corporation (IBM) (State/One-Stop) | Poughkeepsie, NY | 03/02/17 | 03/01/17
92692 | Travelport, LP (State/One-Stop) | Kansas City, MO | 03/02/17 | 03/01/17
92693 | International Business Machines Corporation (IBM) (Workers) | Southbury, CT | 03/03/17 | 03/02/17
92694 | Lifescan Products LLC (Company) | Aguadilla, PR | 03/03/17 | 03/03/17
92695 | Delta Products Corporation (State/One-Stop) | Hillsboro, OR | 03/06/17 | 03/03/17
92696 | Littelfuse Inc. (Company) | Eagle Pass, TX | 03/06/17 | 03/03/17
92697 | Felchar Manufacturing Corporation (State/One-Stop) | Binghamton, NY | 03/06/17 | 03/03/17
92698 | Actronix, Inc. (State/One-Stop) | Newport, AR | 03/07/17 | 03/06/17
92699 | Mustang Survival Manufacturing, Inc. (Workers) | Spencer, WV | 03/07/17 | 03/03/17
92700 | Inteva Products (State/One-Stop) | Adrian, MI | 03/07/17 | 03/06/17
92701 | Borg Warner Thermal Systems (State/One-Stop) | Cadillac, MI | 03/07/17 | 03/06/17
92702 | First Data Resources LLC (State/One-Stop) | Omaha, NE | 03/08/17 | 03/06/17
92703 | DAYCO Products, LLC (Company) | Walterboro, SC | 03/08/17 | 03/06/17
92704 | Intri-Plex Technologies, Inc. (State/One-Stop) | Goleta, CA | 03/08/17 | 03/07/17
92705 | Manitowoc Cranes, LLC (Union) | Manitowoc, WI | 03/08/17 | 03/07/17
92706 | Continental Casualty Company (State/One-Stop) | Brea, CA | 03/08/17 | 03/07/17
92707 | Hewlett Packard Enterprise (State/One-Stop) | Conway, AR | 03/08/17 | 03/07/17
92708 | HCL America Inc. (State/One-Stop) | Mesquite, TX | 03/08/17 | 03/07/17
92709 | Stampede Forest Products, Inc. (State/One-Stop) | Omak, WA | 03/09/17 | 03/08/17
92710 | Sutherland Global (State/One-Stop) | Rochester, NY | 03/09/17 | 03/08/17
92711 | Amdocs Incorporated (Workers) | Champaign, IL | 03/10/17 | 03/09/17
92712 | KNECT365 US, INC. (State/One-Stop) | New York, NY | 03/10/17 | 03/09/17
92713 | Los Angeles Times (State/One-Stop) | Los Angeles, CA | 03/10/17 | 03/09/17
92714 | TBMC (Company) | Greenville, SC | 03/10/17 | 03/09/17
92715 | PaperWorks Industries, Inc. (Union) | Philadelphia, PA | 03/10/17 | 03/09/17
92716 | Siemens Government Technologies, Inc (State/One-Stop) | Wellsville, NY | 03/10/17 | 03/09/17
92717 | Aquion Energy (Workers) | Mont Pleasant, PA | 03/13/17 | 03/10/17
92718 | DeVry Education Group (Company) | Downers Grove, IL | 03/13/17 | 03/10/17
92719 | Burleigh Point LTD, dba RVCA (State/One-Stop) | Irvine, CA | 03/13/17 | 03/10/17
92720 | Sweda Company LLC (State/One-Stop) | City of Industry, CA | 03/13/17 | 03/10/17
92721 | Nippon Paper Industries USA, Co. Limited (Union) | Port Angeles, WA | 03/13/17 | 03/09/17
92722 | Exacq Technologies (Workers) | Fishers, IN | 03/13/17 | 03/13/17
92723 | Hexion, Inc. (Workers) | Mount Jewett, PA | 03/14/17 | 03/13/17
92724 | Intel Corporation (State/One-Stop) | Santa Clara, CA | 03/14/17 | 03/13/17
92725 | Stephens Paper (State/One-Stop) | Stephens, AR | 03/14/17 | 03/13/17
92726 | Vonage (State/One-Stop) | Holmdel, NJ | 03/14/17 | 03/13/17
92727 | Stragtegic Products and Services (State/One-Stop) | Camarillo, CA | 03/15/17 | 03/15/17
92728 | Cooper-Standard Automotive FHS, Inc. (State/One-Stop) | New Lexington, OH | 03/15/17 | 03/14/17
92729 | Avalon Laboratories, LLC (State/One-Stop) | Rancho Dominguez, CA | 03/15/17 | 03/14/17
92730 | Magna Seating Systems of America, Inc. (State/One-Stop) | Warren, OH | 03/15/17 | 03/14/17
92731 | LexisNexis (State/One-Stop) | Colorado Springs, CO | 03/15/17 | 03/14/17
92732 | Ross Mould LLC (Company) | Washington, PA | 03/15/17 | 03/14/17
92733 | Parker Hannifin Corporation (State/One-Stop) | South Gate, CA | 03/15/17 | 03/14/17
92734 | MoneyGram International (Workers) | Frisco, TX | 03/15/17 | 03/14/17
92735 | Ericsson (State/One-Stop) | Plano, TX | 03/16/17 | 03/15/17
92736 | Holland, Inc. (Company) | Holland, MI | 03/16/17 | 03/14/17
92737 | Fidelity National Information Services (State/One-Stop) | Kansas City, MO | 03/17/17 | 03/16/17
92738 | International Business Machines Corporation (IBM) (State/One-Stop) | Costa Mesa, CA | 03/17/17 | 03/16/17
92739 | Micrometals/Texas, Inc. (State/One-Stop) | Abilene, TX | 03/17/17 | 03/16/17
92740 | NSi Industries LLC (Company) | Mount Vernon, NY | 03/17/17 | 03/16/17
92741 | Pacific Gas and Electric Co. (Workers) | San Francisco, CA | 03/17/17 | 03/16/17
92742 | Panasonic Appliances Company of America (Workers) | Danville, KY | 03/20/17 | 03/18/17
92743 | American Technical Ceramics Corporation (Company) | Huntington, NY | 03/20/17 | 03/17/17
92744 | Royal Ingredients (State/One-Stop) | Swedesboro, NJ | 03/20/17 | 03/20/17
92745 | Arrow International (Workers) | Reading, PA | 03/21/17 | 03/20/17
92745A | Teleflex (Workers) | Morrisville, NC | 03/21/17 | 03/20/17
92746 | Lucerne Textiles, Inc. (Company) | Jersey City, NJ | 03/21/17 | 03/20/17
92747 | Wipro (State/One-Stop) | East Brunswick, NJ | 03/21/17 | 03/20/17
92748 | Marland Mold, Inc. (State/One-Stop) | Pittsfield, MA | 03/21/17 | 03/16/17
92749 | Aramark Cafe' (State/One-Stop) | Lincoln, NE | 03/22/17 | 03/22/17
92750 | Cooper Standard Automotive (Workers) | Goldsboro, NC | 03/22/17 | 12/18/16
92751 | Epicor Software (Workers) | Bensalem, PA | 03/22/17 | 03/21/17
92752 | Coriant Operations, Inc. (Workers) | Naperville, IL | 03/22/17 | 03/21/17
92753 | American Technical Ceramics (Company) | Jacksonville, FL | 03/23/17 | 03/16/17
92754 | Axeon Specialty Products LLC (Union) | Paulsboro, NJ | 03/24/17 | 03/24/17
92755 | Flextronics (State/One-Stop) | Austin, PA | 03/24/17 | 03/24/17
92756 | International Business Machines Corporation (IBM) (State/One-Stop) | Coppell, TX | 03/24/17 | 03/23/17
92757 | International Automotive Components (IAC) (State/One-Stop) | Huron, OH | 03/24/17 | 03/23/17
92758 | Pentair Technical Solutions (State/One-Stop) | Houston, TX | 03/24/17 | 03/23/17
92759 | Roche Diagnostics (Workers) | Indianapolis, IN | 03/24/17 | 03/20/17
92760 | Fiserv Solutions, LLC (State/One-Stop) | Hillsboro, OR | 03/27/17 | 03/24/17
92760A | Fiserv Solutions, LLC (State/One-Stop) | Hillsboro, OR | 03/27/17 | 03/24/17
92761 | Streamline International (State/One-Stop) | Wilsonville, OR | 03/27/17 | 03/24/17
92762 | John Deere & Company (State/One-Stop) | Waterloo, IA | 03/27/17 | 03/24/17
92763 | Shoes for Crews, LLC (Workers) | West Palm Beach, FL | 03/27/17 | 03/23/17
92764 | Emerson Process Management (State/One-Stop) | Shakopee, MN | 03/28/17 | 03/27/17
92765A | Honeywell International, Inc. (State/One-Stop) | Plymouth, MN | 03/28/17 | 03/27/17
92765 | Honeywell International, Inc. (State/One-Stop) | Golden Valley, MN | 03/28/17 | 03/27/17
92766 | Mission Solar Energy (State/One-Stop) | San Antonio, TX | 03/28/17 | 03/27/17
92767 | Ocwen Financial Corporation (State/One-Stop) | Houston, TX | 03/28/17 | 03/27/17
92768 | Pacific Gas & Electric Company (Workers) | San Francisco, CA | 03/28/17 | 03/27/17
92769 | River Steel (Company) | La Crosse, WI | 03/28/17 | 03/14/17
92770 | St. John Knits (State/One-Stop) | Irvine, CA | 03/28/17 | 03/27/17
92771 | Gloucester Seafood (State/One-Stop) | Chelsea, MA | 03/29/17 | 03/27/17
92772 | ClydeUnion Pumps, an SPXFLOW Brand (Workers) | Battle Creek, MI | 03/29/17 | 03/28/17
92773 | Freeport McMoran Oil and Gas (Workers) | Houston, TX | 03/30/17 | 03/26/17
92774 | Ernst & Young LLP (Workers) | Dallas, TX | 03/30/17 | 03/29/17
92775 | Multicare Tacoma (State/One-Stop) | Auburn, WA | 03/31/17 | 03/29/17
92776 | IHI E&C International Corporation (State/One-Stop) | Houston, TX | 03/31/17 | 03/30/17
92777 | Macy's Credit and Customer Services (Workers) | Bridgeton, MO | 03/31/17 | 03/29/17
92778 | UTC Aerospace Systems (Butler) (Workers) | Chula Vista, CA | 03/31/17 | 03/22/17
92779 | 3M (Company) | Elyria, OH | 03/31/17 | 03/31/17
92780 | SV Probe (Workers) | Tempe, AZ | 04/03/17 | 03/31/17
92781 | TBC Timber, Inc. (State/One-Stop) | Libby, MT | 04/03/17 | 03/31/17
92782 | Swift Spinning, Inc.—CYD Plant (Company) | Columbus, GA | 04/03/17 | 03/31/17
92783 | Verizon, Incident Management (Workers) | Cary, NC | 04/03/17 | 03/31/17
92784 | Pall Corporation (State/One-Stop) | West Borough, MA | 04/03/17 | 03/31/17
92785 | Mitel (State/One-Stop) | Reno, NV | 04/04/17 | 04/03/17
92786 | Nevamar Company, LLC (Company) | Oshkosh, WI | 04/04/17 | 04/03/17
92787 | BCBG (State/One-Stop) | Los Angeles, CA | 04/04/17 | 04/03/17
92788 | Staples Shared Services Center, LLC (Company) | Columbia, SC | 04/04/17 | 04/03/17
92789 | United States Steel (Union) | Lorain, OH | 04/04/17 | 03/10/17
92790 | A123Systems (Workers) | Romulus, MI | 04/05/17 | 04/04/17
92791 | Alorica, Inc. (State/One-Stop) | North Sioux City, SD | 04/05/17 | 04/04/17
92792 | Avantor Performance Materials (Union) | Phillipsburg, NJ | 04/06/17 | 04/05/17
92793 | Classtex Knitting Mill (Company) | Orwigsburg, PA | 04/06/17 | 04/05/17
92794 | Diamond Materials Tech, Inc. (Company) | Colorado Springs, CO | 04/06/17 | 04/05/17
92795 | Piqua Champion Foundry (State/One-Stop) | Piqua, OH | 04/06/17 | 04/05/17
92796 | Siemens Inc.—dba Dresser-Rand (State/One-Stop) | Olean, NY | 04/06/17 | 04/05/17
92797 | AF Gloenco Company (State/One-Stop) | Greenville, SC | 04/07/17 | 04/07/17
92798 | ATI Flat Rolled Products (Workers) | Washington, PA | 04/07/17 | 04/04/17
92799 | Chippewa Shoe Company LLC (State/One-Stop) | Bangor, ME | 04/07/17 | 04/05/17
92800 | Dell EMC (State/One-Stop) | Round Rock, TX | 04/07/17 | 04/06/17
92801 | Fiat Chrylser (FCA) (Union) | Sterling Heights, MI | 04/07/17 | 04/06/17
92802 | FirstSource (State/One-Stop) | Louisville, KY | 04/07/17 | 04/06/17
92803 | LMI Solutions (Workers) | Phoenix, AZ | 04/07/17 | 04/05/17
92804 | Schneider Electric (Union) | Peru, IN | 04/07/17 | 04/06/17
92805 | Nielsen (Workers) | Green Bay, WI | 04/07/17 | 04/06/17
92806 | Entergy Palisades Nuclear Power Plant (Company) | Covert, MI | 04/10/17 | 04/07/17
92807 | I T O Industries, Inc. (Company) | Bristol, WI | 04/10/17 | 04/07/17
92808 | Reddaway ? subsidiary of YRC Worldwide (State/One-Stop) | Tualatin, OR | 04/10/17 | 04/07/17
92809 | Verizon—Incident Management (Verifying if same as 92783) (Workers) | Cary, NC | 04/10/17 | 04/07/17
92810 | Avid Technology (State/One-Stop) | Burlington, MA | 04/11/17 | 04/06/17
92811 | Power Probe Inc. (State/One-Stop) | Brea, CA | 04/11/17 | 04/10/17
92812 | Sharp Laboratories of America (State/One-Stop) | Camas, WA | 04/11/17 | 04/06/17
92813 | Storm Industries (State/One-Stop) | Torrance, CA | 04/11/17 | 04/10/17
92814 | Argo Group International Holdings (Company) | San Antonio, TX | 04/12/17 | 04/11/17
92815 | Land O'Lakes (State/One-Stop) | Roseville, MN | 04/12/17 | 04/11/17
92816 | MGT Industries, Inc. (State/One-Stop) | Los Angeles, CA | 04/12/17 | 04/11/17
92817 | Swartfager Welding (State/One-Stop) | Knox, PA | 04/12/17 | 04/11/17
92818 | Crissair, Inc. (State/One-Stop) | Valencia, CA | 04/13/17 | 04/12/17
92819 | Fox Rent A Car (State/One-Stop) | Tulsa, OK | 04/13/17 | 04/12/17
92820 | International Specialty Tube, LLC (State/One-Stop) | Detroit, MI | 04/13/17 | 04/12/17
92821 | Jamestown Industries Inc. (State/One-Stop) | Youngstown, OH | 04/13/17 | 04/12/17
92822 | SAF-HOLLAND, Inc. (Company) | Holland, MI | 04/13/17 | 04/12/17
92823 | Gloucester Seafood (State/One-Stop) | Gloucester, MA | 04/14/17 | 04/13/17
92824 | Indspec (Workers) | Petrolla, PA | 04/14/17 | 04/13/17
92825 | Marmon/Keystone LLC—M/K Express (Workers) | East Butler, PA | 04/14/17 | 04/10/17
92826 | Honeywell International, Inc. (State/One-Stop) | Melville, NY | 04/17/17 | 04/14/17
92827 | Praxair, Inc. (State/One-Stop) | Leechburg, PA | 04/17/17 | 04/03/17
92828 | National Steel and Shipbuilding Company (State/One-Stop) | San Diego, CA | 04/18/17 | 04/17/17
92829 | Thomson Reuters (State/One-Stop) | New York, NY | 04/18/17 | 04/17/17
92830 | Glacier Line Logging (State/One-Stop) | Libby, MT | 04/19/17 | 04/18/17
92831 | Monsoon Inc. (State/One-Stop) | Portland, OR | 04/20/17 | 04/19/17
92832 | Finisar Corporation (Company) | Horsham, PA | 04/21/17 | 04/20/17
92833 | Jamco of America Inc. (State/One-Stop) | Everett, WA | 04/21/17 | 04/19/17
92834 | Pearson Education (State/One-Stop) | Bloomington, MN | 04/21/17 | 04/20/17
92835 | Vius (DBA Leadec-Services) (State/One-Stop) | Warren, OH | 04/24/17 | 04/21/17
92836 | Modis, LLC (Workers) | Boise, ID | 04/24/17 | 04/21/17
92837 | Hoshmann Steinberg (State/One-Stop) | Chino, CA | 04/24/17 | 04/21/17
92838 | DJO Global—New Brighton (State/One-Stop) | New Brighton, MN | 04/25/17 | 04/24/17
92839 | Dura Automotive Systems, LLC (Company) | Stockton, IL | 04/26/17 | 04/25/17
92840 | ESCO Co. LLC (Company) | Muskegon, MI | 04/26/17 | 04/25/17
92841 | Honeywell International, Inc. (State/One-Stop) | East Syracuse, NY | 04/26/17 | 04/25/17
92842 | Industrial Tube Company (State/One-Stop) | Perris, CA | 04/26/17 | 04/25/17
92843 | Majestic Wood Products, LLC (State/One-Stop) | White City, OR | 04/26/17 | 04/25/17
92844 | Teleflex/Arrow International (Company) | Asheboro, NC | 04/26/17 | 04/24/17
92845 | Diodes FabTech Inc. (State/One-Stop) | Lee's Summit, MO | 04/27/17 | 04/26/17
92846 | Ericsson Inc. (State/One-Stop) | Plano, TX | 04/27/17 | 04/26/17
92847 | Parkdale America Plant 44 (Company) | Williamston, NC | 04/27/17 | 04/26/17
92848 | Orion Fittings (State/One-Stop) | Kansas City, KS | 04/27/17 | 04/26/17
92849 | BCBG Max Azria group, LLC (Workers) | Vernon, CA | 04/28/17 | 04/27/17
92850 | Caterpillar Inc. (Company) | Houston, PA | 04/28/17 | 04/27/17
92851 | Consolidated Metco (Company) | Bryson City, NC | 04/28/17 | 04/13/17
92852 | Essentra Components (State/One-Stop) | Erie, PA | 04/28/17 | 04/27/17
92853 | International Business Machines Corporation (IBM) (State/One-Stop) | Chicago, IL | 04/28/17 | 04/27/17
92854 | PM Industries Inc. (State/One-Stop) | Beaverton, OR | 04/28/17 | 04/27/17
92855 | Pochet of America, Inc. (State/One-Stop) | Wayne, NJ | 04/28/17 | 04/27/17
92856 | Blue Cross Blue Shield (State/One-Stop) | Providence, RI | 05/01/17 | 04/28/17
92857 | TE Connectivity/Measurement Specialties (Company) | Chatsworth, CA | 05/01/17 | 05/01/17
92858 | Emblem Health (Workers) | New York, NY | 05/02/17 | 04/26/17
92859 | Ericsson Inc. (State/One-Stop) | Plano, TX | 05/02/17 | 05/01/17
92860 | Mellanox Technologies (State/One-Stop) | Monterey Park, CA | 05/02/17 | 04/26/17
92861 | Rent-A-Center (State/One-Stop) | Plano, TX | 05/02/17 | 05/01/17
92862 | Symantec Corporation/Varitas (State/One-Stop) | Springfield, OR | 05/02/17 | 05/01/17
92863 | General Mills (State/One-Stop) | Golden Valley, MN | 05/02/17 | 05/01/17
92864 | Canam Steel Corporation (Workers) | Point of Rocks, MD | 05/03/17 | 05/02/17
92865 | Goodyear Commercial Tire & Service Centers (State/One-Stop) | Fort Smith, AR | 05/03/17 | 05/03/17
92866 | LedVance, LLC f/k/a Osram Sylvania (State/One-Stop) | St. Marys, PA | 05/04/17 | 05/03/17
92867 | White and Case LLP (State/One-Stop) | Warrenville, IL and New York, NY, NY | 05/04/17 | 04/17/17
92868 | Zebra Technologies (State/One-Stop) | Holtsville, NY | 05/04/17 | 05/04/17
92869 | Congoleum Corporation (State/One-Stop) | Trenton, NJ | 05/05/17 | 05/04/17
92870 | Mondi Akrosil, LLC (State/One-Stop) | Lancaster, OH | 05/05/17 | 05/04/17
92871 | Teradyne-Nextest (State/One-Stop) | San Jose, CA | 05/05/17 | 05/04/17
92872 | Allied Ring Corporation (Company) | St. Johns, MI | 05/08/17 | 05/05/17
92873 | Luvo USA, LLC, f/k/a Provita Cuisine LLC (State/One-Stop) | Schaumburg, IL | 05/08/17 | 05/05/17
92874 | ASG Technologies Group, Inc. (State/One-Stop) | Arlington, TX | 05/09/17 | 05/08/17
92875 | Baldor Electric (State/One-Stop) | Fort Smith, AR | 05/09/17 | 05/08/17
92876 | Medtronic-Coon Rapids & Minnetonka locations (State/One-Stop) | Coon Rapids, MN | 05/09/17 | 05/08/17
92877 | MarketSource (State/One-Stop) | Vancouver, WA | 05/09/17 | 05/05/17
92878 | Trombetta Electronics (Company) | Malden, MA | 05/10/17 | 05/02/17
92879 | Beaver-Visitec International, Inc. (Company) | Waltham, MA | 05/10/17 | 04/28/17
92880 | Nexon America, Inc. (State/One-Stop) | El Segundo, CA | 05/10/17 | 05/09/17
92881 | DME/Milacron (Workers) | Youngwood, PA | 05/11/17 | 05/09/17
92882 | Triumph Aerostructures, Vought Aircraft Division (Union) | Red Oak, TX | 05/11/17 | 05/10/17
92883 | Intel Corporation (Company) | Hillsboro, OR | 05/11/17 | 03/16/17
92884 | Med Focus (State/One-Stop) | Tigard, OR | 05/12/17 | 05/11/17
92885 | Surgical Specialties Corporation (Company) | Reading, PA | 05/12/17 | 05/11/17
92886 | Maggy London International (State/One-Stop) | New York, NY | 05/15/17 | 05/10/17
92887 | American Distribution & Warehousing Services (Workers) | Ridgeway, VA | 05/16/17 | 05/15/17
92888 | Conduent, Inc (fka Xerox Commercial Solution, LLC) (State/One-Stop) | Moosic, PA | 05/16/17 | 05/12/17
92889 | ContiTech North America, Inc. (State/One-Stop) | Truman, AR | 05/16/17 | 05/15/17
92890 | International Business Machines Corporation (IBM) (State/One-Stop) | Littleton, MA | 05/16/17 | 05/11/17
92891 | Medtronic (State/One-Stop) | Columbia Heights, MN | 05/16/17 | 05/15/17
92892 | Timex Group USA, Inc. (State/One-Stop) | North Little Rock, AR | 05/16/17 | 05/15/17
92893 | General Mills (Progresso Soup) (State/One-Stop) | Vineland, NJ | 05/17/17 | 05/16/17
92894 | Plews, Inc. Subsidiary of Basil Tree LLC. (State/One-Stop) | Dixon, IL | 05/17/17 | 05/16/17
92895 | SmashFly Technologies (State/One-Stop) | Concord, MA | 05/17/17 | 05/16/17
92896 | Altiostar (State/One-Stop) | Tewksbury, MA | 05/18/17 | 05/16/17
92897 | International Business Machines Corporation (IBM) (State/One-Stop) | Endicott, NY | 05/18/17 | 05/16/17
92898 | Duracell (Company) | Lancaster, SC | 05/18/17 | 05/15/17
92899 | EMC (State/One-Stop) | Hopkinton, MA | 05/18/17 | 05/16/17
92900 | Bank of America (Workers) | Simi Valley, CA | 05/19/17 | 05/17/17
92901 | McCain Foods (State/One-Stop) | Grand Island, NE | 05/19/17 | 05/18/17
92902 | OECO Meggitt Aerospace (State/One-Stop) | Milwaukee, OR | 05/19/17 | 05/18/17
92903 | Boeing Commercial Aircraft (Union) | Tukwila, WA | 05/22/17 | 05/19/17
92904 | Boeing Commercial Aircraft (Union) | Portland, OR | 05/22/17 | 05/19/17
92905 | Seagate Technology (State/One-Stop) | Bloomington, MN | 05/22/17 | 05/19/17
92906 | Baker Hughes International (State/One-Stop) | Houston, TX | 05/23/17 | 05/22/17
92907 | FCR/First Call Resolution (State/One-Stop) | Grants Pass, OR | 05/23/17 | 05/22/17
92908 | SolarWorld Americans Inc. (State/One-Stop) | Hillsboro, OR | 05/23/17 | 05/22/17
92909 | ZeaChem (State/One-Stop) | Boardman, OR | 05/23/17 | 05/18/17
92910 | ABB Inc. (State/One-Stop) | Cary, NC | 05/24/17 | 05/22/17
92911 | American Silk Mills (Workers) | Plains, PA | 05/24/17 | 05/24/17
92912 | Dr. Leonard's Healthcare (State/One-Stop) | Lincoln, NE | 05/24/17 | 05/23/17
92913 | Emblem Health (State/One-Stop) | New York, NY | 05/24/17 | 04/25/17
92914 | Trostel Ltd. (Workers) | Lake Geneva, WI | 05/24/17 | 05/17/17
92915 | Bloomberg LP (Workers) | Skillman, NJ | 05/25/17 | 05/24/17
92916 | Kelvion, Inc. (Workers) | York, PA | 05/25/17 | 05/24/17
92917 | Breg, Inc. (State/One-Stop) | Grand Prairie, TX | 05/26/17 | 05/25/17
92918 | Breg, Inc. (State/One-Stop) | Plano, TX | 05/26/17 | 05/25/17
92919 | eNNOVEA, LLC dba E.G. Industries (Workers) | Erie, PA | 05/31/17 | 05/10/17
92920 | Health Care Service Corp. (State/One-Stop) | Marion, IL | 05/31/17 | 05/30/17
92921 | JP Morgan Chase (State/One-Stop) | Columbus, OH | 05/31/17 | 05/30/17
92922 | Ralph Lauren Corporation (Workers) | Lyndhurst, NJ | 05/31/17 | 05/31/17
92923 | Health Care Services Corporation (State/One-Stop) | Chicago, IL | 06/01/17 | 05/15/17
92924 | Owner Revolution (State/One-Stop) | Atlantic, IA | 06/01/17 | 05/31/17
92925 | Bruker AXS Inc (Company) | Madison, WI | 06/01/17 | 05/31/17
92926 | Android Industries—Detroit, LLC (State/One-Stop) | Detroit, MI | 06/01/17 | 06/01/17
92927 | Nordson Polymer Processing System (Union) | New Castle, PA | 06/02/17 | 06/01/17
92928 | Dell (Workers) | Round Rock, TX | 06/02/17 | 05/22/17

[FR Doc. 2017-13415 Filed 6-26-17; 8:45 am]

BILLING CODE 4510-FN-P